DEPARTMENT OF ENERGY

Federal Energy Regulatory Commission

[Docket Nos. CP06-470-000, Docket Nos. CP06-471-000, Docket Nos. CP06-472-000, Docket Nos. CP06-473-000, Docket Nos. CP06-474-000]

Southern LNG, Inc, Elba Express Company, LLC, Southern Natural Gas Company; Notice Accepting in Part and Rejecting in Part Intervenors' Comments to the Draft Environmental Impact Statement for the Proposed Elba III Project

June 28, 2007.

On May 25, 2007, Landowners for Economic and Environmental Protection (Landowners) submitted Intervenors' Comments to the Draft Environmental Impact Statement for the Proposed Elba III Project in the above referenced dockets.

After receipt of the filing, the staff of the Federal Energy Regulatory Commission (FERC or Commission) has determined that the text of Comments, together with Exhibits A and B, comply with the Commission's filing requirements and are acceptable submittals which will be considered in the Final Environmental Impact Statement. However, Exhibit C (five DVDs containing digital data) is hereby rejected for numerous failures to comply with the Commission's Submission Guidelines for CDs, DVDs, and Other Electronic Media (Guidelines),¹ as outlined below:

¹ The Guidelines appear online at: http://www.ferc.gov/help/submission-guide.asp. The Guidelines specifically outline the areas in which Exhibit C was non-compliant.

• The submission does not include a cover letter containing information specified by the Guidelines;

• The data files on the DVDs include files that exceed the 50 MB limit per file, with many files in the range of 145-456 MB;

• The folder mapping on the DVDs does not follow the Files and Folders Guidelines correlating the electronic data to the logical organization of the document, and there is no documentation outlining how the data was split over the five DVDs and the content on each;

There appears to be duplication of Exhibit A in three places and duplicate copies of other electronic files on the DVDs;

• Many file names are not descriptive, and the cover letter is not in the root directory;

• There are at least 10 unacceptable file types submitted which prohibit both FERC staff and the public from viewing them;

• Specialized software was used to compile the data and distribute the contents over five DVDs, which does not allow FERC staff or the public access to the electronic media without administrative rights;

• The filing does not include a detailed description of the content of the filing and instructions for the public on how to obtain the resources to view it;

• The external labels on the DVDs do not identify the filer, docket number, or security classification of the data;

• The consultant responsible for the compilation of the DVDs did not comply with FERC staff's request to provide a paper copy of the map document (.mxd file) for FERC staff use.

Accordingly, Exhibit C of Landowners' May 25, 2007 submission to the Commission is hereby rejected without prejudice to Landowners' resubmitting this portion of its filing in accordance with the Guidelines.

Kimberly D. Bose,
Secretary.

[FR Doc. E7-12932 Filed 7-3-07; 8:45 am]

BILLING CODE 6717-01-P